DEPARTMENT OF HEALTH AND HUMAN SERVICES

National Institutes of Health

National Institute on Aging; Amended Notice of Meeting

Notice is hereby given of a change in the meeting of the National Institute on Aging Special Emphasis Panel, September 19, 2001, 7 p.m. September 20, 2001, 5 p.m. Hallmark Inn, 110 F Street, Davis, CA, 95616 which was published in the Federal Register on September 19, 2001, 66 FR 48266.

The meeting will now be held October 23-24 at the same location and time. The meeting is closed to the public.

Dated: October 10, 2001.
LaVerne Y. Stringfield,
Director, Office of Federal Advisory Committee Policy.

[FR Doc. 01-26209 Filed 10-17-01; 8:45 am]

BILLING CODE 4140-01-M